DEPARTMENT OF HOMELAND SECURITY

Coast Guard

33 CFR Part 117

[CGD01-06-089]

Drawbridge Operation Regulations; Hackensack River, Snake Hill, NJ

AGENCY: Coast Guard, DHS.

ACTION: Notice of temporary deviation from regulations.

SUMMARY: The Commander, First Coast Guard District, has issued a temporary deviation from the regulation governing the operation of the AMTRAK Portal Bridge, across the Hackensack River at mile 5.0, at Snake Hill, New Jersey. This deviation allows the bridge to remain in the closed position from 11 p.m. on Friday, July 28, 2006 through 11 a.m. on Tuesday, August 1, 2006, and from 11 p.m. on Friday, August 4, 2006 through 11 a.m. on Tuesday, August 8, 2006. This deviation is necessary to facilitate scheduled bridge maintenance.

DATES: This deviation is effective from July 28, 2006 through August 8, 2006.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Joe Arca, Project Officer, First Coast Guard District, at (212) 668-7165.

SUPPLEMENTARY INFORMATION: The AMTRAK Portal Bridge, across the Hackensack River at mile 5.0, at Snake Hill, New Jersey, has a vertical clearance in the closed position of 23 feet at mean high water and 28 feet at mean low water. The existing regulation is listed at 33 CFR 117.723(c).

The owner of the bridge, National Railroad Passenger Corporation (AMTRAK), requested a temporary deviation to facilitate scheduled structural and electrical bridge repairs. In order to perform the above repairs the bridge must remain in the closed position.

Under this temporary deviation the AMTRAK Portal Bridge across the Hackensack River at mile 5.0, at Snake Hill, New Jersey, shall remain in the closed position from 11 p.m. on Friday, July 28, 2006 through 11 a.m. on Tuesday, August 1, 2006, and from 11 p.m. on Friday, August 4, 2006 through 11 a.m. on Tuesday, August 8, 2006.

Vessels that can pass under the draw without a bridge opening may do so at all times.

In accordance with 33 CFR 117.35(c), this work will be performed with all due speed in order to return the bridge to normal operation as soon as possible. This deviation from the operating regulations is authorized under 33 CFR 117.35.

Dated: July 21, 2006.
Gary Kassof,
Bridge Program Manager, First Coast Guard District.

[FR Doc. E6-12978 Filed 8-8-06; 8:45 am]

BILLING CODE 4910-15-P